INTERNATIONAL TRADE COMMISSION

[Inv. No. 337-TA-791; Inv. No. 337-TA-826 (Consolidated)]

Certain Electric Fireplaces, Components Thereof, Manuals for Same, Certain Processes for Manufacturing or Relating to Same and Certain Products Containing Same; Institution of Investigation

AGENCY: U.S. International Trade Commission.

ACTION: Notice.

SUMMARY: Notice is hereby given that a complaint was filed with the U.S. International Trade Commission on December 13, 2011, under section 337 of the Tariff Act of 1930, as amended, 19 U.S.C. 1337, on behalf of Twin-Star International, Inc. of Delray Beach, Florida and TS Investment Holding Corp. of Miami, Florida. The complaint alleges violations of section 337 based upon the importation into the United States, the sale for importation, and the sale within the United States after importation of certain electric fireplaces, components thereof, manuals for same, certain processes for manufacturing or relating to same and certain products containing same by reason of infringement of U.S. Copyright Registration No. TX0007350474; U.S. Copyright Registration No. TX0007350476; U.S. Copyright Registration No. VA0001772660; and U.S. Copyright Registration No. VA0001772661, misappropriation of trade secrets, breach of contract, and tortious interference with contract. The complaint further alleges that an industry in the United States exists as required by subsection (a)(2) of section 337, and that the threat or effect of the unfair methods of competition and unfair acts is to destroy or substantially injure an industry in the United States as required by subsection (a)(1)(A) of section 337.

The complainants request that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on January 11, 2012, ordered that—

(1) Pursuant to subsection (b) of section 337 of the Tariff Act of 1930, as amended, an investigation be instituted to determine:

(a) Whether there is a violation of subsection (a)(1)(B) of section 337 in the importation into the United States, the sale for importation, or the sale within the United States after importation of certain electric fireplaces, components thereof, manuals for same, certain processes for manufacturing or relating to same and certain products containing same that infringe U.S. Copyright Nos. TX0007350474; TX0007350476; VA0001772660; and VA0001772661, and whether an industry in the United States exists as required by subsection (a)(2) of section 337;

(b) whether there is a violation of subsection (a)(1)(A) of section 337 in the importation into the United States, the sale for importation, or the sale within the United States after importation of certain electric fireplaces, components thereof, manuals for same, certain processes for manufacturing or relating to same and certain products containing same by reason of misappropriation of trade secrets, breach of contract, or tortious interference with contract, the threat or effect of which is to destroy or substantially injure an industry in the United States;

(2) For the purpose of the investigation so instituted, the following are hereby named as parties upon which this notice of investigation shall be served:

(a) The complainants are:

Twin-Star International, Inc., 1690 South Congress Avenue, Suite 210, Delray Beach, FL 33445.

TS Investment Holding Corp., c/o Trivest Partners, L.P., 2665 South Bayshore Drive, 8th Floor, Miami, FL 33133.

(b) The respondents are the following entities alleged to be in violation of section 337, and are the parties upon which the complaint is to be served:

Shenzhen Reliap Industrial Co., No. 3 Chuangye Road, The Third Industrial Zone, Shiyan Town, Baoan District, Shenzhen, China.

Yue Qiu Sheng (a.k.a. Jason Yue), Room #507, Building 3, Bang Dao Yuang, Bu Ji Town, Shenzhen City, China 518112.

Whalen Furniture Manufacturing Inc., 1578 Air Wing Road, San Diego, CA 92154.

(c) The Office of Unfair Import Investigations, U.S. International Trade Commission, 500 E Street SW., Suite 401, Washington, DC 20436;

(3) This investigation is consolidated with Investigation No. 337-TA-791 currently pending before the Honorable David P. Shaw, Administrative Law Judge, U.S. International Trade Commission; and

(4) For the consolidated investigation so instituted, the Honorable Charles E. Bullock, Chief Administrative Law Judge, U.S. International Trade Commission, shall designate the presiding Administrative Law Judge, who may adjust the target date and procedural schedule of the consolidated investigation as necessary to avoid prejudice to the rights of the parties.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: January 13, 2012.
By order of the Commission.
James R. Holbein,
Secretary to the Commission.

[FR Doc. 2012-983 Filed 1-18-12; 8:45 am]

BILLING CODE 7020-02-P